ENVIRONMENTAL PROTECTION AGENCY

[EPA-HQ-OW-2011-1013; FRL-9904-51-OW]

Notice of Availability of EPA Documents Regarding Implementation of the Safe Drinking Water Act's Underground Injection Control Program Existing Requirements for Oil and Gas Hydraulic Fracturing Activities Using Diesel Fuels

AGENCY: Environmental Protection Agency (EPA).

ACTION: Notice.

SUMMARY: The U.S. Environmental Protection Agency (EPA) is releasing an interpretive memorandum and technical recommendations for implementing the Underground Injection Control (UIC) Program Class II requirements under the Safe Drinking Water Act, as amended by the Energy Policy Act in 2005, for oil and gas hydraulic fracturing (HF) activities using diesel fuels. The EPA is providing these documents to alleviate uncertainty regarding the applicability of UIC Class II permitting requirements and the agency's interpretation of the term “diesel fuels” in the statute. A key component of our nation's energy future is the safe, responsible development of oil and gas resources. If produced responsibly, expanded use of natural gas in lieu of other fossil fuels has the potential to improve air quality, stabilize energy prices, and provide greater certainty about future energy reserves.

FOR FURTHER INFORMATION CONTACT: Ronald Bergman, Underground Injection Control Program, Drinking Water Protection Division, Office of Ground Water and Drinking Water (MC-4606M), Environmental Protection Agency, 1200 Pennsylvania Ave. NW., Washington, DC 20460; telephone number: (202) 564-3823; email address: bergman.ronald@epa.gov.

SUPPLEMENTARY INFORMATION:

I. General Information

Today, the U.S. Environmental Protection Agency (EPA) is providing notice of the release of an interpretive memorandum and technical recommendations for EPA Regions and State Directors responsible for implementing the Underground Injection Control Program Class II requirements under the Safe Drinking Water Act, as amended by the Energy Policy Act in 2005, for oil and gas hydraulic fracturing (HF) activities using diesel fuels. In the 2005 Energy Policy Act, Congress excluded HF from UIC regulation, except where “diesel fuels” are used in fracturing fluids or propping agents. The technical recommendations have been developed for EPA Regional Offices to consider in applying existing Class II UIC Program regulations when permitting the use of diesel fuels for HF. EPA permit writers have the discretion to consider alternative best practices that are consistent with statutory and regulatory requirements. The EPA also anticipates that owners and operators may find the technical recommendations useful in understanding what factors EPA permit writers may consider in issuing permits for HF operations using diesel fuels. These guidelines are consistent with best practices for hydraulic fracturing in general, including those found in state regulations as well as model guidelines and voluntary standards developed by industry and stakeholders. Thus, States and Tribes responsible for issuing permits and/or updating regulations may find the recommendations useful in improving the protection of underground sources of drinking water and public health wherever hydraulic fracturing is practiced. The EPA is committed to working with co-regulators and other stakeholders to ensure that oil and shale gas development occurs safely and responsibly and to encourage use of best practices, including voluntary use of greener alternatives in HF fluids generally.

Given the significant public interest in the issue, EPA solicited comment from local, State, and Federal agencies, Tribes, and the public via a Federal Register (FR) notice published on May 10, 2012 (77 FR 27451). The docket number for this action is EPA-HQ-OW-2011-1013. The comment period closed on August 23, 2012, after allowing for an extension from 60 days to 105 days, as requested by stakeholders, to give additional time to provide input. EPA considered information submitted by these entities, as well as information obtained from stakeholder outreach meetings and webinars held during the open comment period, in developing the documents released today.

II. How can I get copies of Permitting Guidance for Oil and Gas Hydraulic Fracturing Activities Using Diesel Fuels, and other related information?

A. Docket. The EPA has established a docket for this document under Docket ID No. EPA-HQ-OW-2011-1013. The public docket consists of the documents specifically referenced in this notice, any public comments received and other information related to this notice. Publicly available docket materials are available either electronically through www.regulations.gov or in hard copy in the EPA Docket Center, (EPA/DC) EPA West, Room 3334, 1301 Constitution Ave. NW., Washington, DC. The EPA Docket Center Public Reading Room is open from 8:30 a.m. to 4:30 p.m., Monday through Friday, excluding legal holidays. The telephone number for the Public Reading Room is (202) 566-1744, and the telephone number for the Water Docket is (202) 566-2426.

B. Electronic Access. You may access this Federal Register document electronically through the EPA Internet by either visiting the Underground Injection Control Program's Hydraulic Fracturing and the Safe Drinking Water Act Web site, http://water.epa.gov/type/groundwater/uic/class2/hydraulicfracturing/hydraulic-fracturing.cfm at or http://www.regulations.gov.

Dated: February 5, 2014.
Peter C. Grevatt,
Director, Office of Ground Water and Drinking Water.

[FR Doc. 2014-02929 Filed 2-11-14; 8:45 am]

BILLING CODE 6560-50-P